COMMITTEE FOR THE IMPLEMENTATION OF TEXTILE AGREEMENTS

Denial of Commercial Availability Request under the United States-Caribbean Basin Trade Partnership Act (CBTPA)

December 23, 2004.

AGENCY: The Committee for the Implementation of Textile Agreements (CITA).

ACTION: Denial of the request alleging that certain circular knit jersey fabric for use in apparel articles cannot be supplied by the domestic industry in commercial quantities in a timely manner under the CBTPA.

SUMMARY: On August 31, 2004, the Chairman of CITA received a petition from Sandler, Travis & Rosenberg, P.A., on behalf of Jaclyn, Inc. of New York, alleging that certain circular single knit jersey fabric of the specifications detailed below cannot be supplied by the domestic industry in commercial quantities in a timely manner. The petition requests that women's and girl's nightwear of such fabric assembled in one or more CBTPA beneficiary countries be eligible for preferential treatment under the CBTPA.

FOR FURTHER INFORMATION CONTACT: Anna Flaaten, International Trade Specialist, Office of Textiles and Apparel, U.S. Department of Commerce, (202) 482-3400.

SUPPLEMENTARY INFORMATION:

Authority: Section 213(b)(2)(A)(v)(II) of the Caribbean Basin Economic Recovery Act, as added by Section 211(a) of the CBTPA; Section 6 of Executive Order No. 13191 of January 17, 2001.

BACKGROUND:

The CBTPA provides for quota- and duty-free treatment for qualifying textile and apparel products. Such treatment is generally limited to products manufactured from yarns and fabrics formed in the United States or a beneficiary country. The CBTPA also provides for quota- and duty-free treatment for apparel articles that are both cut (or knit-to-shape) and sewn or otherwise assembled in one or more CBTPA beneficiary countries from fabric or yarn that is not formed in the United States, if it has been determined that such fabric or yarn cannot be supplied by the domestic industry in commercial quantities in a timely manner. In Executive Order No. 13191, the President delegated to CITA the authority to determine whether yarns or fabrics cannot be supplied by the domestic industry in commercial quantities in a timely manner under the CBTPA and directed CITA to establish procedures to ensure appropriate public participation in any such determination. On March 6, 2001, CITA published procedures that it will follow in considering requests (66 FR 13502).

On August 31, 2004, the Chairman of CITA received a petition from Sandler, Travis & Rosenberg, P.A., on behalf of Jaclyn, Inc. of New York (Jaclyn), alleging that certain circular single knit jersey fabric of the specifications detailed below cannot be supplied by the domestic industry in commercial quantities in a timely manner. The petition requested that women's and girl's nightwear of such fabric assembled in one or more CBTPA beneficiary countries be eligible for preferential treatment under the CBTPA.

Specifications:

Fabric Description: | single knit jersey, jacquard geometric rib stitch
Petitioner Style No: | 4934
HTS Subheading: | 6006.32.00.80
Fiber Content: | 64% polyester staple/34% cotton/2% spandex
Weight: | 6.165 sq. meters/kg
Yarn Size: | 54.14 metric (32/1 English), spun, filament core
Gauge: | 24
Finish: | (Piece) dyed
Stretch Characteristics: | 45% from relaxed state; 95% recovery to relaxed state

On September 8, 2004, CITA published a Federal Register notice requesting public comments on the request, particularly with respect to whether these fabrics can be supplied by the domestic industry in commercial quantities in a timely manner. On September 24, 2004, CITA and the Office of the U.S. Trade Representative offered to hold consultations with the relevant Congressional committees. We also requested the advice of the U.S. International Trade Commission and the relevant Industry Trade Advisory Committees.

Given the information in the ITC report and provided by the domestic industry for this and three subsequent petitions on similar products, CITA finds that there is domestic capacity and ability to supply 24-gauge circular knit fabric. During the review of the final petition, CITA uncovered information that there are several domestic suppliers capable of providing 24-gauge circular knit fabric. Follow-up calls made by a CITA representative confirmed that there are at least two U.S. companies who have 24-gauge knitting machines and state they have the ability to make the subject 24-gauge fabric in commercial quantities and in a timely manner.

On the basis of currently available information and our review of this request, CITA has determined that the domestic industry can supply the subject fabric described above in commercial quantities in a timely manner. Jaclyn's request is denied.

D. Michael Hutchinson,
Acting Chairman, Committee for the Implementation of Textile Agreements.

[FR Doc. 04-28717 Filed 12-30-04; 8:45 am]

BILLING CODE 3510-DS-S